DEPARTMENT OF HOMELAND SECURITY

Federal Emergency Management Agency

44 CFR Part 65

Changes in Flood Elevation Determinations

AGENCY: Federal Emergency Management Agency (FEMA), Emergency Preparedness and Response Directorate, Department of Homeland Security.

ACTION: Final rule.

SUMMARY: Modified Base (1% annual chance) Flood Elevations (BFEs) are finalized for the communities listed below. These modified elevations will be used to calculate flood insurance premium rates for new buildings and their contents.

DATES: The effective dates for these modified BFEs are indicated on the following table and revise the Flood Insurance Rate Map(s) (FIRMs) in effect for each listed community prior to this date.

ADDRESSES: The modified BFEs for each community are available for inspection at the office of the Chief Executive Officer of each community. The respective addresses are listed in the table below.

FOR FURTHER INFORMATION CONTACT: Doug Bellomo, P.E., Hazard Identification Section, Emergency Preparedness and Response Directorate, FEMA, 500 C Street, SW., Washington, DC 20472, (202) 646-2903.

SUPPLEMENTARY INFORMATION: FEMA makes the final determinations listed below of modified BFEs for each community listed. These modified elevations have been published in newspapers of local circulation and ninety (90) days have elapsed since that publication. The Mitigation Division Director of the Emergency Preparedness and Response Directorate has resolved any appeals resulting from this notification.

The modified BFEs are not listed for each community in this notice. However, this rule includes the address of the Chief Executive Officer of the community where the modified base flood elevation determinations are available for inspection.

The modifications are made pursuant to Section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

These modified elevations are used to meet the floodplain management requirements of the NFIP and are also used to calculate the appropriate flood insurance premium rates for new buildings built after these elevations are made final, and for the contents in these buildings.

The changes in BFEs are in accordance with 44 CFR 65.4.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because modified BFEs are required by the Flood Disaster Protection Act of 1973, 42 U.S.C. 4105, and are required to maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Alabama: Calhoun (FEMA Docket No. D-7563) | Unincorporated Areas | September 28, 2004, October 5, 2004, Anniston Star | Mr. Ken Joiner, Calhoun County Administrator, 1702 Noble Street, Suite 103, Anniston, Alabama 36201 | September 21, 2004 | 010013 C
Florida: Charlotte (FEMA Docket No. D-7563) | Unincorporated Areas | September 27, 2004, October 4, 2004, Sun Herald | Mr. Bruce Loucks, Charlotte County Administrator, Charlotte County Administration Building, 18500 Murdock Circle, Port Charlotte, Florida 33948 | September 20, 2004 | 120061 F
Delaware: New Castle (FEMA Docket No. D-7563) | Unincorporated Areas | August 17, 2004, August 24, 2004, The News Journal | Mr. Thomas P. Gordon, New Castle County Executive, New Castle County Government Center, 87 Reads Way, New Castle, Delaware 19720 | November 23, 2004 | 105085 G
Georgia: Gwinnett (FEMA Docket No. D-7565) | Unincorporated Areas | October 7, 2004, October 14, 2004, Gwinnett Daily Post | Mr. F. Wayne Hill, Chairman of the Gwinnett County, Board of Commissioners, Justice and Administration Center, 75 Langley Drive, Lawrenceville, Georgia 30045 | September 29, 2004 | 130322 C
Massachusetts: Suffolk (FEMA Docket No. D-7561) | City of Boston | July 16, 2004, July 23, 2004, Boston Herald | The Honorable Thomas Menino, Mayor of the City of Boston, 1 City Hall Plaza, 5th Floor, Boston, Massassachusetts 02201 | July 9, 2004 | 250286 D
Mississippi: DeSoto (FEMA Docket No. D-7651) | City of Olive Branch | August 5, 2004, August 12, 2004, The DeSoto County Tribune | The Honorable Samuel P. Rikard, Mayor of the City of Olive Branch, City Hall, 9189 Pigeon Roost Road, Olive Branch, Mississippi 38654 | July 27, 2004 | 280286 E
North Carolina: Durham (FEMA Docket No. D-7563) | City of Durham | August 11, 2004, August 18, 2004, The Herald Sun | The Honorable William V. Bell, Mayor of the City of Durham, Office of the Mayor, 101 City Hall Plaza, Durham, North Carolina 27701 | November 17, 2004 | 370086 G
Pennsylvania:
Dauphin (FEMA Docket No. D-7651) | Township of Lower Paxton | July 19, 2004, July 26, 2004, The Patriot News | Mr. William B. Hawk, Chairman of the Township of Lower Paxton Board of Supervisors, 75 South Houcks Road, Suite 207, Harrisburg, Pennsylvania 17109 | October 25, 2004 | 420384 B
Bucks | Township of Northampton | August 4, 2004, August 11, 2004, Bucks County Courier Times | Mr. Bruce Townsend, Township Northampton Manager, 55 Township Road, Richboro, Pennsylvania 18954 | November 10, 2004 | 420208 F
Bucks (FEMA Docket No. D-7561) | Township of Warminster | August 4, 2004, August 11, 2004, The Intelligencer | Ms. Judith Smith, Township of Warminster Manager, 401 Gibson Avenue, Warminster, Pennsylvania 18794 | November 10, 2004 | 420990 F
Bucks (FEMA Docket No. D-7561) | Township of Warrington | August 4, 2004, August 11, 2004, The Intelligencer | Mr. John D. Bonargo, Sr., Township of Warrington Manager, Township Building, 852 Easton Road, Warrington, Pennsylvania 18976 | November 10, 2004 | 420208 F
Bucks (FEMA Docket No. D-7561) | Township of Warwick | August 4, 2004, August 11, 2004, The Intelligencer | Ms. Judith A. Algeo, Chairman of the Township of Warwick, Board of Supervisors, 1733 Township Greene, Jamison, Pennsylvania 18929 | November 10, 2004 | 420209 F
Bucks (FEMA Docket No. D-7561) | Township of Wrightstown | August 4, 2004, August 11, 2004, Bucks County Courier Times | Mr. Chester S. Pogonowski, Chairman of the Township of Wrightstown Board of Supervisors, 738 Penns Park Road, Wrightstown, Pennsylvania 18940 | November 10, 2004 | 421045 F
South Carolina:
Horry (FEMA Docket No. D-7563) | Unincorporated Areas | August 27, 2004, September 3, 2004, The Sun News | Mr. Danny Knight, Horry County Administrator, P.O. Box 1236, Conway, South Carolina 29528 | December 3, 2004 | 450104 H
Charleston (FEMA Docket No. D-7563) | City of Isle of Palms | October 1, 2004, October 8, 2004, The Post & Courier | The Honorable F. Michael Sottile, Mayor of the City of Isle of Palms, P.O. Box 508, Isle of Palms, South Carolina 29451 | September 23, 2004 | 455416 E
Sumter (FEMA Docket No. D-7563) | Unincorporated Areas | August 26, 2004, September 2, 2004, The Item | Mr. William T. Noonan, Sumter County Administrator, 13 East Canal Street, Sumter, South Carolina 29150 | December 2, 2004 | 450182 C
Virginia: Fauquier (FEMA Docket No. D-7561) | Unincorporated Areas | July 15, 2004, July 22, 2004, Fauquier Citizen | Mr. G. Robert Lee, Fauquier County Administrator, 40 Culpeper Street, Warrenton, Virginia 20186 | July 9, 2004 | 510055 B

Catalog of Federal Domestic Assistance No. 83.100, “Flood Insurance.”)

Dated: July 6, 2005.
David I. Maurstad,
Acting Director, Mitigation Division, Emergency Preparedness and Response Directorate.

[FR Doc. 05-13930 Filed 7-14-05; 8:45 am]

BILLING CODE 9110-12-P